DEPARTMENT OF ENERGY

Federal Energy Regulatory Commission

Combined Notice of Filings

Take notice that the Commission has received the following Natural Gas Pipeline Rate and Refund Report filings:

Filings Instituting Proceedings

Docket Numbers: RP13-1248-000.

Applicants: Midwestern Gas Transmission Company.

Description: FPAL Service Activity Report of Midwestern Gas Transmission Company.

Filed Date: 8/14/13.

Accession Number: 20130814-5173.

Comments Due: 5 p.m. ET 8/26/13.

Docket Numbers: RP13-1249-000.

Applicants: National Fuel Gas Supply Corporation.

Description: Cancellation of Rate Schedule X-51 to be effective 1/15/2013.

Filed Date: 8/15/13.

Accession Number: 20130815-5024.

Comments Due: 5 p.m. ET 8/27/13.

Docket Numbers: RP13-1250-000.

Applicants: Carolina Gas Transmission Corporation.

Description: Carolina Gas Transmission Corporation submits its annual Penalty Revenue Crediting Report to inform the Commission of penalty revenues CGT will credit on invoices for August service for the period of June 1, 2012—May 31, 2013.

Filed Date: 8/15/13.

Accession Number: 20130815-5119.

Comments Due: 5 p.m. ET 8/27/13.

Docket Numbers: RP13-1251-000.

Applicants: Direct Energy Business, LLC, Hess Corporation, Hess Energy Marketing, LLC.

Description: Application of Direct Energy Business, LLC et al. for temporary waivers of capacity release regulations and related pipeline tariff provisions.

Filed Date: 8/15/13.

Accession Number: 20130815-5169.

Comments Due: 5 p.m. ET 8/27/13

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP13-556-003.

Applicants: Gulf Shore Energy Partners, LP.

Description: Gulf Shore Energy Partners, LP—Compliance Filing Required by Rehearing Order to be effective 8/15/2013.

Filed Date: 8/15/13.

Accession Number: 20130815-5094.

Comments Due: 5 p.m. ET 8/27/13.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2013.
Nathaniel J. Davis, Sr.,
Deputy Secretary.

[FR Doc. 2013-20595 Filed 8-22-13; 8:45 am]

BILLING CODE 6717-01-P